ENVIRONMENTAL PROTECTION AGENCY

[OAR-2002-0073, FRL-7923-8]

Agency Information Collection Activities: Proposed Collection; Comment Request; Recordkeeping and Periodic Reporting of the Production, Import, Export, Recycling, Destruction, Transhipment, and Feedstock Use of Ozone-Depleting Substances, EPA ICR Number 1432.25, OMB Control Number 2060-0170

AGENCY: Environmental Protection Agency (EPA).

ACTION: Notice.

SUMMARY: In compliance with the Paperwork Reduction Act (44 U.S.C. 3501 et seq.), this document announces that EPA is planning to submit a renewal continuing Information Collection Request (ICR) to the Office of Management and Budget (OMB). This is a request to renew an existing approved collection. This ICR is scheduled to expire on August 31, 2005. Before submitting the ICR to OMB for review and approval, EPA is soliciting comments on specific aspects of the proposed information collection as described below.

DATES: Comments must be submitted on or before August 15, 2005.

ADDRESSES: Submit your comments, referencing docket ID number OAR-2002-0073, to EPA online using EDOCKET (our preferred method), by e-mail to a-and-r-Docket@epa.gov, or by mail to: EPA Docket Center, Environmental Protection Agency, Air Docket, Mail Code 6102T, 1200 Pennsylvania Ave., NW., Washington, DC 20460.

FOR FURTHER INFORMATION CONTACT: Kirsten M. Cappel, Office of Atmospheric Programs, Stratospheric Protection Division, Mail Code 6205J, Environmental Protection Agency, 1200 Pennsylvania Ave., NW., Washington, DC 20460; telephone (202) 343-9556, facsimile (202) 343-2338, e-mail: cappel.kirsten@epa.gov.

SUPPLEMENTARY INFORMATION: EPA has established a public docket for this ICR under Docket ID number OAR-2002-0073, which is available for public viewing at the EPA Air Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the EPA Air Docket is (202) 566-1742. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are those that produce, import, export, destroy, transform as a feedstock, distribute, or apply controlled ozone depleting substances (ODS).

Title: Recordkeeping and Periodic Reporting of the Production, Import, Export, Recycling, Destruction, Transhipment, and Feedstock Use of Ozone-Depleting Substances, EPA ICR Number 1432.25; OMB Control Number 2060-0170.

Abstract: The international treaty The Montreal Protocol on Substances that Deplete the Ozone Layer (Protocol) and Title VI of the Clean Air Act (CAA) established limits on total U.S. production, import, and export of class I and class II controlled ODS. Under its Protocol commitments, the United States is obliged to cease production and import of class I controlled substances with exemptions for essential uses, critical uses, previously used material, and material that will transformed, destroyed, or exported to developing countries. The Protocol also establishes limits and reduction schedules leading to the eventual phaseout of class II controlled substances with similar exemptions beyond the phaseout. Additionally, the CAA has its own limits on production and consumption of controlled substances that EPA must adhere to and enforce.

To ensure the United States's compliance with the limits and restrictions established by the Protocol and the CAA, the ODS phaseout regulations establish control measures for individual companies. The limits and restrictions for individual United States companies are monitored by EPA through the recordkeeping and reporting requirements established in the regulations stated in 40 CFR part 82, subpart A. To submit required information, regulated entities can download reporting forms from EPA's stratospheric ozone Web site (http://www.epa.gov/ozone/record.index.html), complete them, and then send them to EPA via U.S. Mail or fax. Upon receipt of the reports, the data is entered and subsequently stored in the Stratospheric Protection Tracking System (Tracking System). The Tracking System is a secure database that maintains all of the data that is submitted to EPA and allows the Agency to: (1) Maintain control over total production and consumption of controlled substances to satisfy conditions of the CAA and fulfill the United States's obligations under the Protocol; (2) monitor compliance with limits and restrictions on production, imports, exports, and specific exemptions to the phaseout for individual U.S. companies; and (3) enforce against illegal imports and violations related to the control of class I and class II substances. Additionally, reporting on the exemptions permits an entity to retain the benefit of being able to produce or import a controlled class I ODS beyond the date of complete phaseout.

EPA is developing an electronic reporting system through the Agency's Central Data Exchange (CDX) that will allow regulated entities to download, complete, and submit reports electronically. Electronic reporting is expected to make the reporting process more effective and efficient for reporting companies and EPA. When electronic reporting becomes available, EPA will change its guidance document and its ICR to indicate a reduction in burden hours.

Pursuant to regulations 40 CFR part 2, part B, reporting businesses are entitled to assert a business confidentiality claim covering any part of the submitted business information as defined in 40 CFR 2.201(c).

An agency may not conduct or sponsor, and a person is not required to respond to, a collection of information unless it displays a currently valid OMB control number. The OMB control numbers for EPA's regulations are listed in 40 CFR part 9.

EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: EPA requests comments on the following estimated burden hours and costs adapted from ICR number 1432.22. EPA may revise the calculations based on recently submitted class I and class II data to more accurately reflect implementation of the ODS phaseout. Recordkeeping and reporting requirements for class I ODS may have decreased over time as the phaseout of controlled ODS has matured.

The accelerated phaseout rule for ODS requires respondents to submit reports to the Agency and maintain records. The estimated total number of respondents is 253 and the frequency of responses is quarterly and/or annually. The total burden hours is estimated to be about 5,553. Operating and maintenance (O&M) costs include file storage, photocopying, and storage, and postage. They also include the general upkeep of start-up capital equipment, as well as any purchase of services such as contractor or auditing services. O&M costs are estimated at $3,032 for the accelerated phaseout rule for ODS. The burden hours and costs are as follows: (a) Respondent's annual burden hours, $6,876; (b) Respondent's annual labor costs, $536,328; (c) Respondent's capital/start-up costs (ICR renewal notice), $0; (d) Respondent's O&M costs, $3,032; (e) Agency's annual burden hours, $2,159; (f) Agency's annual labor costs, $102,125.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: June 5, 2005.
Drusilla Hufford,
Director, Stratospheric Protection Division, Office of Air and Radiation.

[FR Doc. 05-11716 Filed 6-13-05; 8:45 am]

BILLING CODE 6560-50-P